DEPARTMENT OF ENERGY

Federal Energy Regulatory Commission

[Docket Nos. EL19-25-000, QF18-1748-001, QF18-1749-001]

Notice of Petition for Enforcement: Great Divide Wind Farm 2, LLC; Great Divide Wind Farm 3, LLC

Take notice that on December 6, 2018, pursuant to section 210(h)(2)(B) of the Public Utility Regulatory Policies Act of 1978 (PURPA), Great Divide Wind Farm 2 LLC and Great Divide Wind Farm 3 LLC (Project Companies or Petitioner) filed a Petition for Enforcement, requesting that the Federal Energy Regulatory Commission (Commission) initiate an enforcement action against New Mexico Public Regulation Commission to remedy their alleged improper implementation of PURPA, all as more fully explained in their petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Petitioners.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment date: 5:00 p.m. Eastern Time on December 27, 2018.

Dated: December 7, 2018.
Nathaniel J. Davis, Sr.,
Deputy Secretary.

[FR Doc. 2018-26961 Filed 12-12-18; 8:45 am]

BILLING CODE 6717-01-P